DEPARTMENT OF DEFENSE

Department of the Air Force

Intent To Grant an Exclusive Patent License

ACTION: Notice.

SUMMARY: Pursuant to the provisions of Part 404 of Title 37, Code of Federal Regulations, which implements Public Law 96-517, as amended; the Department of the Air Force announces its intention to grant Compunetix, Inc., a corporation of the State of Pennsylvania, having a place of business at 2420 Mosside Boulevard, Monroeville, Pennsylvania, an exclusive license limited to the field of ground and shipboard voice communications applications and systems in any right, title and interest the Air Force has in: U.S. Patent No. 7,391,877, issued June 24, 2008, entitled “Spatial Processor For Enhanced Performance in Multi-Talker Speech Displays,” by Douglas S. Brungart.

The Air Force intends to grant a license for the patent unless a written objection is received within fifteen (15) calendar days from the date of publication of this Notice. Written objection should be sent to: Air Force Materiel Command Law Office, AFMCLO/JAZ, 2240 B Street, Rm. D-14, Wright-Patterson AFB, OH 45433-7109; Facsimile: (937) 255-3733.

Tommy W. Lee,
Acting Air Force Federal Register Liaison Officer.

[FR Doc. 2014-05617 Filed 3-20-14; 8:45 am]

BILLING CODE 5001-05-P